DEPARTMENT OF THE INTERIOR

Bureau of Land Management

[OR-025-1990-EX-241A; HAG8-0195]

Notice of Intent To Prepare an Environmental Impact Statement for the Celatom Mine Expansion Plan of Operations From EP Minerals, LLC

AGENCY: Bureau of Land Management, Burns District, Three Rivers Resource Area.

ACTION: Notice of Intent to prepare an Environmental Impact Statement.

SUMMARY: In accordance with the National Environmental Policy Act of 1969 and surface management regulations at 43 CFR part 3809 and 43 CFR part 3715 for operations authorized by the mining laws on public lands, the Bureau of Land Management (BLM) is initiating preparation of an Environmental Impact Statement (EIS) to analyze potential environmental effects resulting from proposed expansion of an existing diatomite mine.

DATES: Scoping comments will be accepted for 45 days following publication of this notice. The scoping comments will be used as BLM prepares the Draft EIS. Public notice will be provided when the Draft EIS becomes available in 2009.

FOR FURTHER INFORMATION CONTACT: For further information or to have your name added to our mailing list, contact Celatom Mine Expansion EIS Lead, Bureau of Land Management, Burns District Office, 28910, Highway 20 West, Hines, Oregon 97738; (541) 573-4400; Fax (541) 573-4411; or e-mail (OREPCME@blm.gov). Documents pertinent to this project may be examined at the Burns District Office west of Hines, Oregon, during regular business hours, 7:45 a.m. to 4:30 p.m., Monday through Friday, except holidays.

SUPPLEMENTARY INFORMATION: The Celatom Mine is currently on Federal, State, and private land covering approximately 450 acres. On Federal land it is operating under a Mine Plan of Operations received by Burns District BLM in 1984 that was approved by BLM after completion of an Environmental Assessment in 1985. Proposed expansion of the Celatom Mine and changes in mining methods require additional environmental analysis. The existing disturbance, coupled with proposed mine expansion and areas proposed for exploratory drilling, encompasses 8,115 acres of public land managed by BLM, 1,280 acres of state land, 1,640 acres of private land, and 1,600 acres of private surface estate with Federal mineral estate patented under the Stock Raising Homestead Act. The mine area is located almost entirely in Three Rivers Resource Area of Burns District BLM with 35 acres in Vale District BLM.

An interdisciplinary approach will be used to develop the EIS in order to consider the variety of resource issues and concerns identified through the scoping process. Disciplines involved in the planning process will include (but not be limited to) those with expertise in air quality, American Indian traditional practices, biological soil crusts, cultural heritage, fire management, fisheries, grazing management, migratory birds, minerals, noxious weeds, recreation, soils, transportation/roads, vegetation, visual resources, water quality, riparian zones, wildlife, and wilderness characteristics.

Public Participation

Cooperating agencies having specific expertise or interests in the project are invited to participate. The public and interest groups will have every opportunity to participate during formal comment periods. In addition, public meetings will be held during the public comment period for the Draft EIS. Public meetings will be held in Burns, Oregon, and Vale, Oregon, plus other communities if the interest warrants. Early participation is encouraged and will help determine the future management of the Celatom Mine. Meetings and comment deadlines will be announced through the local news media and the Burns BLM Web site (http://www.blm.gov/or/districts/burns). Written comments will be accepted throughout the planning process at the address above. Before including your address, phone number, e-mail address, or other personal identifying information in your comment, you should be aware that your entire comment—including your personal identifying information—may be made publicly available at any time. While you can ask us in your comment to withhold your personal identifying information from public review, we cannot guarantee that we will be able to do so.

Background Information

The Celatom Mine currently consists of three open pit mines located within four miles of each other in Harney and Malheur Counties, Oregon. One mine is on land managed by BLM's Burns District; another mine is on land managed by the State of Oregon, and the third mine is on private land. EP Minerals excavates diatomaceous earth during the summer, stockpiles ore and waste rock in the vicinity of each mine, and hauls the ore approximately 60 miles year-round to their mill located on private land west of Vale, Oregon. Some ore is stockpiled at a site on land administered by BLM in the vicinity of the mill. Mill waste is backhauled to the mine site and used in backfilling the open pits as part of reclamation.

Brendan J. Cain,
Acting Burns District Manager.

[FR Doc. E8-21491 Filed 9-12-08; 8:45 am]

BILLING CODE 4310-33-P